DEPARTMENT OF ENERGY

Federal Energy Regulatory Commission

[Project No. 13092-000]

Rhode Island Energy Group, LLC; Notice of Preliminary Permit Applications Accepted for Filing and Soliciting Comment, Motions To Intervene, and Competing Applications

August 5, 2008.

On December 31, 2007, Rhode Island Energy Group, LLC filed an application, pursuant to section 4(f) of the Federal Power Act, proposing to study the feasibility of the Sakonnet River Project, to be located on the Sakonnet River in Newport County, Rhode Island.

The proposed Sakonnet River Project consists of: (1) A proposed shrouded tidal turbin generating unit having an installed capacity of 500 kilowatts, (2) a proposed transmission line, and (3) appurtenant facilities. The Rhode Island Energy Group, LLC, project would have an average annual generation of 2 gigawatt-hours and be sold to a local utility.

Applicant Contact: Mr. John J. Callahan, Rhode Island Energy Group, LLC, P.O. Box 130, Portsmouth, RI 02871, phone (401) 683-0031.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13092) in the docket number field to access the document. For assistance, call toll-free 1-866-208-3372.

Kimberly D. Bose,
Secretary.

[FR Doc. E8-18462 Filed 8-8-08; 8:45 am]

BILLING CODE 6717-01-P